DEPARTMENT OF THE INTERIOR

Bureau of Land Management

[BLM_AZ_FRN_MO4500175817]

Notice of Temporary Closure of Selected Public Lands in Pinal County, AZ

AGENCY: Bureau of Land Management, Interior.

ACTION: Notice of temporary closure.

SUMMARY: Notice is hereby given that a closure to all public use and entry is in effect on certain public lands administered by the Lower Sonoran Field Office, to provide for public health and safety during the construction of the Goldfield Recreation Area.

DATES: The temporary closure will be in effect for 2 years from 12:01 a.m., February 5, 2024, or until the completion of construction, whichever is sooner.

ADDRESSES: The BLM will post closure signs at main entry points to this area. This closure order will be posted in the Lower Sonoran Field Office. Maps of the affected area and other documents associated with this closure are available at the Lower Sonoran Field Office, 2020 E Bell Road, Phoenix, AZ 85022, and online at https://eplanning.blm.gov/eplanning-ui/project/2023216/510.

FOR FURTHER INFORMATION CONTACT: Tyler Lindsey, Lower Sonoran Field Office Manager, telephone: (623) 580-5500, email: tlindsey@blm.gov; or Raul Menchaca, District Chief Ranger, telephone: (623) 580-5500, email: rmenchaca@blm.gov; 2020 E Bell Rd., Phoenix, AZ 85022. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: This closure affects public lands in the Goldfield Recreation Area, northeast of Apache Junction in Pinal County, Arizona. The legal description of the affected public lands is:

Goldfield Recreation Area

Gila & Salt River Meridian, Arizona

T. 1 N., R. 8 E.,

Sec. 1, lots 30 thru 34, and lots 36, 39, and 40, and cancelled M.S. No. 1130, and portions of cancelled M.S. No. 3886;

Sec. 2, All, excepting Patent No. 02-99-0008;

Sec. 3, lot 216 and cancelled M.S. No. 4598;

Sec. 10, N½N¼,

Sec. 11, W½NW¼, that portion lying northerly of State Route 88.

The area described contains 1,091.97 acres, more or less.

The closure is necessary to protect public health and address safety risks while constructing Goldfield Recreation Area facilities and infrastructure. The construction of the Goldfield Recreation Area is in conformance with the Apache Junction Goldfield Recreation Area Final Environmental Assessment (DOI-BLM-AZ-P020-2023-0002-EA; https://eplanning.blm.gov/eplanning-ui/project/2023216/510) and Decision Record. Under the authority of section 303(a) of the Federal Land Policy and Management Act of 1976 (43 U.S.C. 1733(a)), 43 CFR 8360.0-7, and 43 CFR 8364.1, the BLM will enforce the following closure within the Goldfield Recreation Area.

Closure: The Goldfield Recreation Area is temporarily closed to all public use and entry.

Exemptions: The temporary closures do not apply to Federal, State, and local officers and employees in the performance of their official duties; members of organized rescue or firefighting forces in the performance of their official duties; and persons with written authorization from the BLM.

Enforcement: Any person who violates the temporary closures may be tried before a United States magistrate and fined in accordance with 18 U.S.C. 3571, imprisoned no more than 12 months under 43 U.S.C. 1733(a) and 43 CFR 8360.0-7, or both. In accordance with 43 CFR 8365.1-7, State or local officials may also impose penalties for violations of Arizona law.

Effect of Closure: The entire area encompassed by the legal description as described in this notice and in the time period as described in this notice are temporarily closed to all public use, including pedestrians and vehicles, unless specifically excepted as described above.

(Authority: 43 CFR 8364.1)

Tyler Lindsey,
Lower Sonoran Field Manager.

[FR Doc. 2023-29001 Filed 1-3-24; 8:45 am]

BILLING CODE 4331-12-P